Title 3—

The President

Proclamation 10804 of September 6, 2024

National Hispanic-Serving Institutions Week, 2024

By the President of the United States of America

A Proclamation

Education is a ticket to a better life, and for more than 4.7 million Hispanic and Latino students, Hispanic-Serving Institutions (HSIs) make it possible. The over 500 HSIs across our country are home to over half of Hispanic and Latino college students. During National Hispanic-Serving Institutions Week, we celebrate these critical postsecondary institutions, which empower our students to pursue the full limits of their talent and ambition.

HSIs are engines of opportunity, success, and upward mobility. They serve Dreamers, first-generation college students, and many who come from low-income and underserved communities. HSIs empower their students, no matter the students' backgrounds, to obtain their degrees and begin building a more secure, prosperous future for themselves and their families.

My Administration is committed to giving HSIs the resources they need to support the students they serve. That is why we invested over $15 billion in HSIs, including $11 billion through the American Rescue Plan—the largest investment in Hispanic and Latino college students in our Nation's history. I also established the first-ever White House Initiative on Advancing Educational Equity, Excellence, and Economic Opportunity through Hispanic-Serving Institutions, which will support HSIs in building their capacity to provide a high-quality education, identify opportunities for these institutions to participate in Federal programs, and help to ensure HSIs can continue to be engines of educational opportunity and economic mobility.

We are also working to make college more affordable for every American and to relieve the crushing burden of student loan debt. We have approved the cancellation of nearly $170 billion in student loan debt for nearly 5 million people through various actions. We repaired the Public Service Loan Forgiveness Program (PSLF), giving more breathing room to teachers, nurses, law enforcement officials, first responders, and other public servants. My Administration has already provided relief to 946,000 borrowers through PSLF—before I took office, only 7,000 public servants had received debt relief through this program. We secured a $900 increase to the maximum Pell Grant award—the largest increase in over a decade—lowering the cost of higher education for underserved students. We are also taking steps to help borrowers manage their payments through income-driven repayment and get access to benefits through fixes to public service loan forgiveness, borrower defense, and other key types of discharges. And earlier this year, I laid out my Administration's new plans that would provide debt relief for more than 30 million Americans when combined with everything we have done so far.

The promise of America is big enough for everyone to succeed—we just have to make sure we keep the doors of opportunity open. This week, may we celebrate the more than 500 HSIs, which support our Latino students, put new possibilities within their reach, and give them a fair shot at the American Dream.

NOW, THEREFORE, I, JOSEPH R. BIDEN JR., President of the United States of America, by virtue of the authority vested in me by the Constitution and the laws of the United States, do hereby proclaim September 9 through September 15, 2024, as National Hispanic-Serving Institutions Week. I call on public officials, educators, and all the people of the United States to observe this week with appropriate programs, ceremonies, and activities that acknowledge the many ways these institutions and their graduates contribute to our country.

IN WITNESS WHEREOF, I have hereunto set my hand this sixth day of September, in the year of our Lord two thousand twenty-four, and of the Independence of the United States of America the two hundred and forty-ninth.

[FR Doc. 2024-20703

Filed 9-10-24; 8:45 am]

Billing code 3395-F4-P